DEPARTMENT OF LABOR

Office of the Assistant Secretary for Veterans Employment and Training

President's National Hire Veterans Committee; Notice of Open Meeting

The President's National Hire Veterans Committee was established under 38 U.S.C. 4100 Public Law 107-288, Jobs for Veterans Act, to furnish information to employers with respect to the training and skills of veterans and disabled veterans, and to the advantages afforded employers by hiring veterans with training and skills and to facilitate the employment of veterans and disabled veterans through participation in Career One Stop National Labor Exchange, and other means.

The President's National Hire Veterans Committee will meet on Thursday, February 23, 2006 beginning at 1 p.m. at the Omni Hotel, 245 Water Street, Jacksonville, Florida.

The committee will discuss raising corporate awareness as to the advantages of hiring veterans.

Individuals needing special accommodations should notify Bill Offutt at (202) 693-4717 by February 16, 2006.

Signed in Washington, DC, this 23rd day of January 2006.
Charles S. Ciccolella,
Assistant Secretary, Veterans Employment and Training.

[FR Doc. E6-1610 Filed 2-6-06; 8:45 am]

BILLING CODE 4510-79-P